SECURITIES AND EXCHANGE COMMISSION

[File No. 500-1]

In the Matter of Ives Health Co. Inc.; Order of Suspension of Trading

March 5, 2001.

It appears to the Securities and Exchange Commission that there is a lack of current and accurate information concerning the securities of Ives Health Company, Inc., an Oklahoma corporation, with its principal place of business in Claremore, Oklahoma. Questions have been raised about the adequacy and accuracy of publicly disseminated information concerning, among other things, a product being marketed by Ives Health for treatment of human immunodeficiency virus (HIV).

The Commission is of the opinion that the public interest and the protection of investors require a suspension of trading in the securities of Ives Health.

Therefore, it is ordered, pursuant to section 12(k) of the Securities Exchange Act of 1934, that trading in the securities of Ives Health Company, Inc. is suspended for the period from 9:30 a.m. EST, March 5, 2001, through 11:59 p.m. EST, March 16, 2001.

By the Commission.
Margaret H. McFarland,
Deputy Secretary.

[FR Doc. 01-5676 Filed 3-5-01; 1:12 pm]

BILLING CODE 8010-01-M